Title 3—

The President

Proclamation 8297 of October 1, 2008

National Breast Cancer Awareness Month, 2008

By the President of the United States of America

A Proclamation

During National Breast Cancer Awareness Month, we underscore our commitment to fighting and preventing this devastating disease. Breast cancer is one of the most common types of cancer among women, and we must strengthen our support of those who are living with this disease while continuing to work toward a cure.

Breast cancer can be attributed to many factors, including age, genetics, obesity, and family history. Women who exercise regularly, maintain healthy diets, and have yearly visits with their doctors are less likely to get breast cancer. Various screening measures such as mammograms, regular breast self-exams, and clinical breast exams can help detect cancer before it has a chance to spread. Early detection allows for early intervention, helps make treatment more effective, and gives hope to patients and saves lives.

America leads the world in medical research, and my Administration will continue to support efforts to treat and cure breast cancer. Since 2005, the Cancer Genome Atlas has studied the genetic sources of all types of cancer, and last year, I signed the “National Breast and Cervical Cancer Early Detection Program Reauthorization Act of 2007,” which will help millions of low-income and uninsured women get the screenings they need to detect cancer early. First Lady Laura Bush has encouraged women around the world to take charge of their health and emphasized the importance of screenings and early detection. In partnership with Federal agencies, State health agencies, and other medical professionals, my Administration has taken action to improve our Nation's healthcare system and helped promote the prevention, detection, and treatment of breast cancer.

This month, we honor those currently battling the disease and all who have survived the fight against breast cancer. We are inspired by their strength and determination. We recognize and applaud the hard-working caregivers and researchers who are dedicated to providing comfort and assistance to those with breast cancer and to treating and curing this disease. We also remember those lost to breast cancer and extend our thoughts and prayers to their families.

NOW, THEREFORE, I, GEORGE W. BUSH, President of the United States of America, by virtue of the authority vested in me by the Constitution and the laws of the United States, do hereby proclaim October 2008 as National Breast Cancer Awareness Month. I call upon Government officials, businesses, communities, health care professionals, educators, volunteers, and the people of the United States to continue our Nation's strong commitment to preventing, treating, and ultimately curing breast cancer.

IN WITNESS WHEREOF, I have hereunto set my hand this first day of October, in the year of our Lord two thousand eight, and of the Independence of the United States of America the two hundred and thirty-third.

[FR Doc. E8-23724

Filed 10-3-08; 8:45 am]

Billing code 3195-W9-P